DEPARTMENT OF THE INTERIOR

Bureau of Reclamation

Salton Sea Restoration Project, Coachella and Imperial Counties, California, INT-DES-00-03

AGENCY: Bureau of Reclamation, Interior.

ACTION: Notice of availability of the Draft Environmental Impact Statement/Draft Environmental Impact Report (DEIS/DEIR).

SUMMARY: Pursuant to the National Environmental Policy Act (NEPA) and the California Environmental Quality Act (CEQA), the Bureau of Reclamation (Reclamation) and the Salton Sea Authority (SSA) have prepared a joint DEIS/DEIR for the Salton Sea Restoration Project (SSRP). The Salton Sea is an artificially maintained inland body of water located in the southeastern corner of California, southeast of Palm Springs, and spans Riverside and Imperial counties. Based on scientific, environmental, and feasibility studies conducted for the SSRP, five project alternatives were developed to address project goals. The DEIS/DEIR describes and presents the environmental effects of the five alternatives as well as the No Action Alternative. Public hearings will be held to receive written or verbal comments on the DEIS/DEIR from interested organizations and individuals on the environmental impacts of the proposal. A Notice of Public Hearing will be published at a later date with dates, times, and locations of the hearings.

DATES: A 90-day public review period commences with the publication of this notice. Submit written comments on the DEIS/DEIR on or before April 25, 2000.

ADDRESSES: Written comments on the DEIS/DEIR should be addressed to Mr. Tom Kirk, Director, Salton Sea Authority, 78-401 Highway 111, Suite T, La Quinta, CA 92253; or to Mr. William Steele, Program Manager, Salton Sea Project, Bureau of Reclamation, PO Box 61470, Boulder City, NV 89006-1470.

The document is available on the Internet at http:@@www.lc.usbr.gov. Copies of the DEIS/DEIR may be requested from Mr. Steele at the above address or by calling (702) 293-8129. See SUPPLEMENTARY INFORMATION section for locations where copies of the DEIS/DEIR are available for public inspection.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

FOR FURTHER INFORMATION CONTACT: Mr. Tom Kirk, SSA, at (760) 564-4888; or Mr. William Steele, Reclamation, at (702) 293-8129.

SUPPLEMENTARY INFORMATION: The SSRP was developed to comply with Public Laws 102-575 and 105-372 which direct the Secretary of the Interior to “conduct a research project for the development of a method or combination of methods to reduce and control salinity, provide endangered species habitat, enhance fisheries, and protect recreational values * * * in the area of the Salton Sea” as well as “complete all studies, including, but not limited to environmental and other reviews, of the feasibility and benefit-cost of various options that permit the continued use of the Salton Sea as a reservoir for irrigation drainage and (i) reduce and stabilize the overall salinity of the Salton Sea; (ii) stabilize the surface elevation of the Salton Sea; (iii) reclaim, in the long term, healthy fish and wildlife resources and their habitats; and (iv) enhance the potential for recreational uses and economic developments of the Salton Sea.” The following five project goals were developed: (1) Maintain the Sea as a repository for agricultural drainage; (2) provide a safe, productive environment at the Sea for resident and migratory birds and endangered species; (3) restore recreational uses at the Sea; (4) maintain a viable sport fishery at the Sea; and (5) enhance the Sea to provide economic development opportunities. The DEIS/DEIR presents a No Action Alternative, five action alternatives, as well as a suite of common actions developed to enhance the action alternatives. The action alternatives are approached as each consisting of two phases: (i) “short-term” or Phase 1 of each action alternative is designed to reduce and stabilize salinity for at least 30 years; and (ii) Phase 2 or “long-term” actions designed to last no less than 70 to 100 years. Each alternative, including the No Action Alternative, is evaluated against three inflow scenarios: (1) current (present-day) inflow of 1.36 million acre-feet per year (maf/yr); (ii) a reduction of 300,000 acre-feet per year (af/yr) to 1.06 maf/yr; and (iii) a total inflow reduction of 536,000 af/yr to 0.8 maf/yr. Phase 1 action alternatives include: (1) construction of evaporation ponds that would concentrate salinity within their boundaries to reduce salinity in the Sea, and also could potentially serve as a displacement mechanism to control the Sea's elevation; (2) construction of an Enhanced Evaporation System (EES), a system that sprays a fine mist of water into the air to accelerate evaporation and create a saline precipitate; (3) a combination of an EES with an evaporation pond; or (4) an in-Sea EES within an evaporation pond. Phase 2 action alternatives involve supplementing inflows to the Sea, creating displacement structures for elevation control, and creating longer lasting export options.

Copies of the DEIS/DEIR are available for public inspection and review at the following locations:

• Salton Sea Authority, 78-035 Calle Estado, La Quinta, California 92253-2930; telephone: (760) 564-4888

• Bureau of Reclamation, Salton Sea Project Office, PO Box 61470, Boulder City, Nevada 89006-1470; telephone: (702) 293-8129

• Bureau of Reclamation, Office of Policy, Room 7456, 1849 C Street NW, Washington, DC 20240; telephone: (202) 208-4662

• Bureau of Reclamation, Reclamation Service Center Library, Building 67, Room 167, Denver Federal Center, 6th and Kipling, Denver, Colorado 80225; telephone: (303) 445-2072

• Bureau of Reclamation, Public Affairs Office, PO Box 61470, Boulder City, Nevada 89006-1470; telephone: (702) 293-8420

• Natural Resources Library, U.S. Department of the Interior, 1849 C Street NW, Main Interior Building, Washington, DC 20240-0001, telephone: (202) 208-5815

• Sonny Bono Salton Sea National Wildlife Refuge, 906 West Sinclair Road, Calipatria, CA 92233, telephone: (760) 348-5278

• Coachella Valley Water District, Highway 111 and Avenue 52, Coachella, CA 92236, telephone: (760) 398-2651

• Imperial County Administrative Center, 940 West Main Street, Suite 208, El Centro, CA 92243-2875, telephone: (760) 339-4290

• Imperial Irrigation District, 333 East Barioni Boulevard, Imperial, CA 92251, telephone: (760) 339-9426

• Supervisor, District 4 (Supervisor Roy Wilson), 46-200 Oasis Street, Suite 318, Indio, CA 92201, telephone: (760) 863-8211

• Bombay Beach Community Services District, 9590 Avenue C, Niland, CA 92257, telephone: (760) 354-1209

• Salton Sea State Park, 100-225 State Park Road, North Shore, CA 92254, telephone: (760) 393-1338

• Riverside County (Supervisor Roy Wilson's Office), 4080 Lemon Street, 12th Floor, Riverside, CA 92502, telephone: (909) 955-1040

• Community Services District, 2098 Frontage Road, Salton City, CA 92275, telephone: (760) 394-4446

• San Diego State University, 5500 Campanile Drive, San Diego, CA 92182-8050, telephone: (619) 594-6014

• San Diego Central Library, 820 East Street, San Diego, CA 92101-6478, telephone: (619) 236-5800

• Palm Springs Public Library, 300 South Sunrise Way, Palm Springs, CA 92262-7699, telephone: (619) 323-8298

• Clark County Library, 1401 E. Flamingo Road, Las Vegas, Nevada 89119, telephone: (702) 733-7810

• Yuma County Library District, 350 Third Avenue, Yuma, AZ 85364, telephone: (520) 782-1871

• The Burton Barr Central Library, 1221 North Central Avenue, Phoenix AZ 85004, telephone: (602) 262-4636

• Los Angeles Public Library, 630 West Fifth Street, Los Angeles, CA 90071-2097, telephone: (213) 228-7515

• University of Redlands, Armacost Library, 1249 E. Colton Avenue, Redlands, CA 92374-3758, telephone: (909) 335-4022

• University of California, Riverside, Riverside, CA 92517-5900, telephone: (909) 787-3221

• California State Polytechnic University, Pomona, 3801 West Temple Avenue, Pomona, CA 91768, telephone: (909) 869-3088

• University of California, Davis, 100 North West Quad, Davis, CA 95616-5292, telephone: (530) 752-2110

Dated: January 21, 2000.
William Steele,
Program Manager, Salton Sea Project, Bureau of Reclamation.

[FR Doc. 00-1843 Filed 1-25-00; 8:45 am]

BILLING CODE 4310-94-P